DEPARTMENT OF TRANSPORTATION

Federal Aviation Administration

14 CFR Part 71

[Docket No. FAA-2004-18822; Airspace Docket No. 04-ACE-48]

Modification of Class D Airspace; and Modification of Class E Airspace; Salina, KS

AGENCY: Federal Aviation Administration (FAA), DOT.

ACTION: Direct final rule; request for comments.

SUMMARY: This action amends title 14 Code of Federal Regulations, part 71 (14 CFR 71) by revising Class D and Class E airspace areas at Salina, KS. A review of the controlled airspace areas at Salina, KS revealed they do not reflect the current Salina Municipal Airport airport reference point (ARP) and do not comply with criteria for diverse departures. The review also identified other discrepancies in the legal descriptions for the Salina, KS Class D and Class E airspace areas. The intended effect of this rule is to provide controlled airspace of appropriate dimensions to protect aircraft departing from and executing Standard Instrument Approach Procedures (SIAPs) to Salina Municipal Airport. It also corrects discrepancies in the legal descriptions of Salina, KS Class D and Class E airspace areas and brings the airspace areas and legal descriptions into compliance with FAA Orders.

DATES: This direct final rule is effective on 0901 UTC, January 20, 2005. Comments for inclusion in the Rules Docket must be received on or before November 1, 2004.

ADDRESSES: Send comments on this proposal to the Docket Management System, U.S. Department of Transportation, Room Plaza 401, 400 Seventh Street, SW., Washington, DC 20590-0001. You must identify the docket number FAA-2004-18822/Airspace Docket No. 04-ACE-48, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above adress.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION: This amendment to 14 CFR part 71 modifies the Class D airspace area, the Class E airspace area designated as a surface area, the Class E airspace area designated as an extension to the Class D airspace area and the Class E airspace area extending upward from 700 feet above the surface at Salina, KS. An examination of controlled airspace for Salina, KS revealed that the Salina Municipal Airport ARP used in the legal descriptions for all airspace areas is incorrect. The location of the Salina collocated very high frequency omni-directional radio range and tactical air nagivational aid (VORTAC) used in the Class E airspace area designated as an extension to the Class D airspace area legal description is incorrect. The examination also revealed that the airspace areas do not comply with airspace requirements for diverse departures as set forth in FAA Order 7400.2E, Procedures for Handling Airspace Matters, and that the dimensions of extensions to the airspace areas do not comply with FAA Order 8260.19C, Flight Procedures and Airspace.

This action expands the Salina, KS Class D and Class E airspace area designated as a surface area from a 4.9-mile to a 5.4-mile radius of Salina Municipal Airport. It also expands the Class E airspace area extending upward from 700 feet above the surface from a 7.4-mile radius to an 8.4-mile radius of the airport and corrects the ARP and location of the Salina VORTAC in the legal descriptions. Additionally, this action modifies the Class E airspace area designated as an extension to the Class D airspace area reducing its width from 2 to 1.5 miles each side of centerline and decreasing its length by 2 miles. Extensions to the Class E airspace area extending upward from 700 feet above the surface are no longer required and are deleted from the legal description.

These modifications provide controlled airspace of appropriate dimensions to protect aircraft departing from and executing SIAPs to Salina Municipal Airport and bring the legal descriptions of the Salina, KS Class D and Class E airspace areas into compliance with FAA Orders 7400.2E and 8260.19C. Class D airspace areas are published in Paragraph 5000 of FAA Order 7400.9M, dated August 30, 2004, and effective September 16, 2004, which is incorporated by reference in 14 CFR 71.1. Class E airspace areas designated as surface areas, Class E airspace areas designated as an extension to a Class D airspace area and Class E airspace areas extending upward from 700 feet or more above the surface of the earth are published in Paragraphs 6002, 6004 and 6005, respectively, of the same FAA Order. The Class D and Class E airspace designations listed in this document will be published subsequently in the Order.

The Direct Final Rule Procedure

The FAA anticipates that this regulation will not result in adverse or negative comment and, therefore, is issuing it as a direct final rule. Previous actions of this nature have not been controversial and have not resulted in adverse comments or objections. Unless a written adverse or negative comment, or a written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulelmaking may be published with a new comment period.

Comments Invited

Interested parties are invited to participate in this rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2004-18822/Airspace Docket No. 04-ACE-48.” The postcard will be date/time stamped and returned to the commenter.

Agency Findings

The regulations adopted herein will not have a substantial direct effect on the States, on the relationship between the national government and the States, or on the distribution of power and responsibilities among the various levels of government. Therefore, it is determined that this final rule does not have federalism implications under Executive Order 13132.

The FAA has determined that this regulation is noncontroversial and unlikely to result in adverse or negative comments. For the reasons discussed in the preamble, I certify that this regulation (1) is not a “significant regulatory action” under Executive Order 12866; (2) is not a “significant rule” under Department of Transportation (DOT) Regulatory Policies and Procedures (44 FR 11034, February 26, 1979); and (3) if promulgated, will not have a significant economic impact, positive or negative, on a substantial number of small entities under the criteria of the Regulatory Flexibility Act.

List of Subjects in 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9M, dated August 30, 2004, and effective September 16, 2004, is amended as follows:

Paragraph 5000 Class D Airspace.

* * * * *

ACE KS D Salina, KS

Salina Municipal Airport, KS

(Lat. 38°47′27″ N., long. 97°39′08″ W.)

That airspace extending upward from the surface to and including 3,800 feet MSL within a 5.4-mile radius of Salina Municipal Airport. This Class D airspace area is effective during the specific dates and times established in advance by a Notice to Airmen. The effective date and time will thereafter be continuously published in the Airport/Facility Directory.

* * * * *

Paragraph 6002 Class E Airspace Designated as Surface Areas.

* * * * *

ACE KS E2 Salina, KS

Salina Municipal Airport, KS

(Lat. 38°47′27″ N., long. 97°39′08″ W.)

Within a 5.4-mile radius of Salina Municipal Airport. This Class E airspace area is effective during the specific dates and times established in advance by a Notice to Airmen. The effective date and time will thereafter be continuously published in the Airport/Facility Directory.

* * * * *

Paragraph 6004 Class E Airspace Designated as an Extension to a Class D or Class E Surface Area.

* * * * *

ACE KS E4 Salina, KS

Salina Municipal Airport, KS

(Lat. 38°47′27″ N., long. 97°39′08″ W.)

Salina VORTAC

(Lat. 38°55′31″ N., long. 97°37′17″ W.)

That airspace extending upward from the surface within 1.5 miles each side of the Salina VORTAC 190° radial extending from the 5.4-mile radius of Salina Municipal Airport to 2 miles south of the VORTAC.

* * * * *

Paragraph 6005 Class E airspace areas extending upward from 700 feet or more above the surface of the earth.

* * * * *

ACE KS E5 Salina, KS

Salina Municipal Airport, KS

(Lat. 38°47′127″ N., long. 97°39′08″ W.)

That airspace extending upward from 700 feet above the surface within an 8.4-mile radius of Salina Municipal Airport.

* * * * *

Dated: Issued in Kansas City, MO, on September 16, 2004.
Paul J. Sheridan,
Manager, Air Traffic Division, Central Region.

[FR Doc. 04-21529 Filed 9-23-04; 8:45 am]

BILLING CODE 9910-13-M